SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before July 13, 2021.

ADDRESSES: Send all comments to Michael Donadieu, Senior Examiner, Office of SBIC Examinations, Small Business Administration, Washington, DC 20416.

FOR FURTHER INFORMATION CONTACT: Michael Donadieu, Senior Examiner, Office of SBIC Examinations, 202-205-7281, michael.donadieu@sba.gov, Heath Morris, Director, Office of SBIC Examinations, 202-798-3620, Heath.Morris@sba.gov, or Curtis B. Rich, Management Analyst, 202-205-7030, curtis.rich@sba.gov.

SUPPLEMENTARY INFORMATION: Small Business Administration (SBA) Forms 856 and 856A are used by SBA examiners as part of their examination of licensed small business investment companies (SBICs). This information collection obtains representations from an SBIC's management regarding certain obligations, transactions and relationships of the SBIC and helps SBA to evaluate the SBIC's financial condition and compliance with applicable laws and regulations.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0118

Title: Disclosures Statement Leveraged Licensees; Disclosure Statement Non-leveraged Licensees.

Description of Respondents: SBA Examiners.

Form Numbers: SBA Forms 856 and 856A.

Total Estimated Annual Responses: 598.

Total Estimated Annual Hour Burden: 276.

Curtis Rich,
Management Analyst.

[FR Doc. 2021-10186 Filed 5-13-21; 8:45 am]

BILLING CODE 8026-03-P